DEPARTMENT OF ENERGY

Federal Energy Regulatory Commission

[Project No. 13579-002; Project No. 14491-000]

FFP Qualified Hydro 14, LLC; Western Minnesota Municipal Power Agency; Notice Announcing Preliminary Permit Drawing

The Commission has received two preliminary permit applications deemed filed on February 1, 2013 at 8:30 a.m.,¹ for proposed projects to be located at the U.S. Army Corps of Engineers' Saylorville Dam and Lake on the Des Moines River, in the city of Johnston in Polk County, Iowa. The applications were filed by FFP Qualified Hydro 14, LLC for Project No. 13579-002 and Western Minnesota Municipal Power Agency for Project No. 14491-000.

¹ Under the Commission's Rules of Practice and Procedure, any document received after regular business hours is considered filed at 8:30 a.m. on the next regular business day. See 18 CFR 385.2001(a)(2) (2013).

On October 21, 2013, at 10:00 a.m. (Eastern Time), the Secretary of the Commission, or her designee, will conduct a random drawing to determine the filing priority of the applicants identified in this notice. The Commission will select between the two competing permit applications as provided in section 4.37 of its regulations.² The priority established by this drawing will be used to determine which applicant, between those with identical filing times, will be considered to have the first-filed application.

² See id. 4.37.

The drawing is open to the public and will be held in room 2C, the Commission Meeting Room, located at 888 First Street NE., Washington, DC 20426. The Secretary will issue a subsequent notice announcing the results of the drawing.

Dated: October 10, 2013.
Nathaniel J. Davis, Sr.,
Deputy Secretary.

[FR Doc. 2013-24481 Filed 10-17-13; 8:45 am]

BILLING CODE 6717-01-P